DEPARTMENT OF THE INTERIOR

Fish and Wildlife Service

Recovery Plan for Blackburn's Sphinx Moth (Manduca blackburni)

AGENCY: Fish and Wildlife Service, Interior.

ACTION: Notice of document availability.

SUMMARY: The U.S. Fish and Wildlife Service (we) announces the availability of the Recovery Plan for Blackburn's Sphinx Moth (Manduca blackburni) (sphinx moth). This insect taxon is endemic to the main Hawaiian Islands.

ADDRESSES: Copies of this recovery plan will be available within 4 weeks by request form the U.S. Fish and Wildlife Service, Pacific Islands Fish and Wildlife Office, 300 Ala Moana Boulevard, Room 3-122, Box 50088, Honolulu, Hawaii 96850 (phone: 808-792-9400) and the Hawaii State Library 478 S. King Street, Honolulu, Hawaii 96813. An electronic copy of the recovery plan is now available on the World Wide Web at: http://endangered.fws.gov/recovery/index.html#plans.

FOR FURTHER INFORMATION CONTACT: The Field Supervisor at the above Honolulu address.

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the Act requires that public notice and an opportunity for public review and comment be provided during recovery plan development. In fulfillment of this requirement, the Draft Recovery Plan for the Blackburn's Sphinx Moth (Manduca blackburni) was available for public comment from December 18, 2003, through February 17, 2004 (68 FR 70528). Information presented during the public comment period has been considered in the preparation of this final recovery plan, and is summarized in the appendix to the recovery plan. We will forward substantive comments regarding recovery plan implementation to appropriate Federal or other entities so that they can take these comments into account during the course of implementing recovery actions.

The sphinx moth was federally listed as endangered in 2000 (65 FR 4770) and 22,440 hectares (55,451 acres) of critical habitat was designated in 2003 (68 FR 34710). This insect taxon is currently known to occur on three of the seven Hawaiian Islands where it historically occurred, including Hawaii, Maui, and Kahoolawe. Vegetation types that support the sphinx moth include dry to mesic shrub land and forest from sea level to mid-elevations. Soil and climatic conditions, as well as physical factors, affect the suitability of habitat within the species' range.

Threats include impacts to the sphinx moth's habitat from urban and agricultural development, invasion by non-native plant species, habitat fragmentation and degradation, increased wildfire frequency, ungulates, and direct impacts to the moth from non-native parasitoids and insect predators.

The objective of this recovery plan is to provide a framework for the recovery of the sphinx moth so that protection by the ESA is no longer necessary. Actions necessary to accomplish this objective include: (1) Protection, management, restoration of habitat, and control of threats; (2) expanding existing wild Nothocestrum spp. host plant populations; (3) conducting additional research essential to recovery of the sphinx moth; (4) development and implementation of a detailed monitoring plan for the sphinx moth; (5) reestablishing and augmentation of wild sphinx moth populations within its historic range; (6) developing and providing information for the public on the sphinx moth; (7) validating recovery objectives which includes refining/revising the downlisting and delisting criteria; and (8) develop a post-delisting monitoring plan.

Authority: The authority for this action is section 4(f) of the Endangered Species Act, 16 U.S.C. 1533(f).

Dated: August 26, 2005.
David J. Wesley,
Acting Regional Director, Region 1, U.S. Fish and Wildlife Service.

[FR Doc. 05-19331 Filed 9-27-05; 8:45 am]

BILLING CODE 4310-55-P